DEPARTMENT OF EDUCATION

[Docket No.: ED-2023-SCC-0214]

Agency Information Collection Activities; Submission to the Office of Management and Budget for Review and Approval; Comment Request; Evaluation of Full-Service Community Schools

AGENCY: Institute of Education Sciences (IES), Department of Education (ED).

ACTION: Notice.

SUMMARY: In accordance with the Paperwork Reduction Act (PRA) of 1995, the Department is proposing a new collection request (ICR).

DATES: Interested persons are invited to submit comments on or before April 24, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Erica Johnson, (202) 453-7381.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Full-Service Community Schools.

OMB Control Number: 1850-NEW.

Type of Review: New ICR.

Respondents/Affected Public: Private sector; State, local, and Tribal governments.

Total Estimated Number of Annual Responses: 566.

Total Estimated Number of Annual Burden Hours: 511.

Abstract: The Full-Service Community Schools program, funded through title IV of the Elementary and Secondary Education Act, seeks to improve student outcomes by leveraging partnerships to help schools provide coordinated and integrated wraparound services to students and families, particularly in high-poverty schools. This study will be the first implementation evaluation of the Full-Service Community Schools program.

This Information Collection Request (ICR) follows the related June 2023 ICR that OMB approved (1850-0981) to conduct an initial survey of FY 2022 Full-Service Community Schools grantees. This ICR seeks approval to conduct additional rounds of data collection focused on helping policymakers and the community schools field better understand how program implementation is playing out. Included in these data collection are a follow-up survey of the FY 2022 grantees, a baseline and interim survey of the newly-awarded FY 2023 grantees and their partner schools, and one round of administrative data from states and districts that oversee FY 2023 partner schools.

Dated: March 20, 2024.
Juliana Pearson,
PRA Coordinator, Strategic Collections and Clearance, Governance and Strategy Division, Office of Chief Data Officer, Office of Planning, Evaluation and Policy Development.

[FR Doc. 2024-06211 Filed 3-22-24; 8:45 am]

BILLING CODE 4000-01-P